DEPARTMENT OF ENERGY

Federal Energy Regulatory Commission

Combined Notice of Filings #1

Take notice that the Commission received the following electric corporate filings:

Docket Numbers: EC17-34-000.

Applicants: Great Western Wind Energy, LLC.

Description: Application for Authorization under Section 203 of the Federal Power Act and Request for Expedited Consideration and Confidential Treatment of Great Western Wind Energy, LLC.

Filed Date: 11/16/16.

Accession Number: 20161116-5159.

Comments Due: 5 p.m. ET 12/7/16.

Take notice that the Commission received the following electric rate filings:

Docket Numbers: ER10-2881-014; ER10-2641-014; ER10-2663-014; ER10-2882-014; ER10-2883-014; ER10-2884-014; ER10-2885-014; ER13-1101-009; ER13-1541-008; ER14-787-002; EL15-39-000.

Applicants: Alabama Power Company; Southern Power Company; Mississippi Power Company; Georgia Power Company; Gulf Power Company; Oleander Power Project, Limited Partnership; Southern Company—Florida LLC; Southern Turner Cimarron I, LLC; Spectrum Nevada Solar, LLC; Campo Verde Solar, LLC; Macho Springs Solar, LLC.

Description: Comments of Southern Companies on the EQR Analysis of Hour-Ahead Transactions in accordance to the August 9, 2016 and October 13, 2016 Orders.

Filed Date: 10/28/16.

Accession Number: 20161028-5192.

Comments Due: 5 p.m. ET 11/18/16.

Docket Numbers: ER17-272-000.

Applicants: Startrans IO, LLC.

Description: Errata to November 1, 2016 Startrans IO, LLC tariff filing (Exhibit ST-03).

Filed Date: 11/16/16.

Accession Number: 20161116-5149.

Comments Due: 5 p.m. ET 12/7/16.

Docket Numbers: ER17-366-000.

Applicants: Southwest Power Pool, Inc.

Description: § 205(d) Rate Filing: Revisions to Prospectively Require All VERs to Register as DVERs to be effective 1/15/2017.

Filed Date: 11/16/16.

Accession Number: 20161116-5132.

Comments Due: 5 p.m. ET 12/7/16.

Docket Numbers: ER17-367-000.

Applicants: PJM Interconnection, L.L.C.

Description: § 205(d) Rate Filing: Revisions to the OATT and RAA RE: Enhanced Aggregation and Seasonal Capacity to be effective 1/19/2017.

Filed Date: 11/17/16.

Accession Number: 20161117-5003.

Comments Due: 5 p.m. ET 12/8/16.

Docket Numbers: ER17-368-000.

Applicants: Southwest Power Pool, Inc.

Description: § 205(d) Rate Filing: 3114R1 Resale Power Group of Iowa NITSA NOA to be effective 11/1/2016.

Filed Date: 11/17/16.

Accession Number: 20161117-5021.

Comments Due: 5 p.m. ET 12/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 17, 2016.
Nathaniel J. Davis, Sr.,
Deputy Secretary.

[FR Doc. 2016-28196 Filed 11-22-16; 8:45 am]

BILLING CODE 6717-01-P